ENVIRONMENTAL PROTECTION AGENCY

[ER-FRL-9039-6]

Environmental Impact Statements; Notice of Availability

Responsible Agency: Office of Federal Activities, General Information (202) 564-7156 or https://www2.epa.gov/nepa/.

Weekly receipt of Environmental Impact Statements

Filed 05/21/2018 Through 05/25/2018

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20180111, Draft, NMFS, NAT, Draft Environmental Impact Statement for Issuing Annual Catch Limits to the Alaska Eskimo Whaling Commission for a Subsistence Hunt on Bowhead Whales for the Years 2019 and Beyond, Comment Period Ends: 07/24/2018, Contact: John Henderschedt, 301-427-8385.

EIS No. 20180112, Draft, FHWA, NY, Hunts Point Interstate Access Improvement Project, Comment Period Ends: 07/16/2018, Contact: Erik Koester, 718-482-4683.

EIS No. 20180113, Draft, CBP, ID, Bog Creek Road Project, Comment Period Ends: 07/16/2018, Contact: Paul Enriquez 949-643-6365.

EIS No. 20180114, Final Supplement, USACE, LA, Integrated General Reevaluation Report & Supplement III to the Final Environmental Impact Statement, Mississippi River Ship Channel, Baton Rouge to the Gulf, Louisiana Project, Review Period Ends: 07/02/2018, Contact: Steve Roberts 504-862-2517.

EIS No. 20180115, Draft, USFS, WA, Sunrise Vegetation and Fuels Management, Comment Period Ends: 07/16/2018, Contact: Johnny Collin 509-843-4643.

EIS No. 20180116, Draft Supplement, FHWA, WI, WIS 23 Fond du Lac to Plymouth, 2018 Limited Scope Supplemental Draft Environmental Impact Statement, Comment Period Ends: 07/31/2018, Contact: Michael Davies 608-829-7500.

EIS No. 20180117, Draft, NJDEP, NJ, Rebuild by Design (RBD) Meadowlands Flood Protection Project, Comment Period Ends: 07/16/2018, Contact: Dennis Reinknecht 609-777-4152.

EIS No. 20180118, Final, USDA, TX, Cattle Fever Tick Eradication Program—Tick Control Barrier, Review Period Ends: 07/02/2018, Contact: Dr. Denise Bonilla 970-494-7317.

Dated: May 29, 2018.
Rob Tomiak,
Director, Office of Federal Activities.

[FR Doc. 2018-11773 Filed 5-31-18; 8:45 am]

BILLING CODE 6560-50-P